DEPARTMENT OF COMMERCE

National Oceanic and Atmospheric Administration

[RTID 0648-XA751]

South Atlantic Fishery Management Council; Public Meeting

AGENCY: National Marine Fisheries Service (NMFS), National Oceanic and Atmospheric Administration (NOAA), Commerce.

ACTION: Notice of public meeting.

SUMMARY: The South Atlantic Fishery Management Council (Council) will hold a meeting of the Law Enforcement Advisory Panel to obtain feedback and recommendations on items related to enforcement of fisheries regulations and proposed changes.

DATES: The Law Enforcement Advisory Panel will meet on February 1, 2021, from 9 a.m. to 4 p.m. The meeting will be held via webinar.

ADDRESSES:

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION:

The Law Enforcement Advisory Panel (AP) meeting is open to the public and will be available via webinar as it occurs. Registration is required. Webinar registration information, a public comment form, and other meeting materials will be posted to the Council's website at: http://safmc.net/safmc-meetings/current-advisory-panel-meetings/ as it becomes available.

The meeting agenda includes updates on amendments under development and possible related changes to regulations, including modifications to the Wreckfish Individual Transferable Quota Program, management of dolphin and wahoo along the Atlantic coast, and possibly allowing rock shrimp trawling along the eastern edge of the northern extension of the Oculina Bank Habitat Area of Particular Concern, an area where the fishery operated historically. The AP will also discuss enforcement issues relative to for-hire electronic reporting and best fishing practices requirements. Additionally, the AP will make recommendations on possible changes to how the AP is structured and discuss other topics of interest to the Council.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: January 6, 2021.
Rey Israel Marquez,
Acting Deputy Director, Office of Sustainable Fisheries, National Marine Fisheries Service.

[FR Doc. 2021-00276 Filed 1-8-21; 8:45 am]

BILLING CODE 3510-22-P